INTERNATIONAL TRADE COMMISSION

[Investigation No. 731-TA-1359 (Review)]

Carton-Closing Staples from China; Termination of Five-Year Review

AGENCY: United States International Trade Commission.

ACTION: Notice.

SUMMARY: The Commission instituted the subject five-year review on April 3, 2023 to determine whether revocation of the antidumping duty order on carton-closing staples from China would be likely to lead to continuation or recurrence of material injury. On June 22, 2023, the Department of Commerce published notice that it was revoking the order effective May 8, 2023, because no domestic interested party filed a timely notice of intent to participate. Accordingly, the subject review is terminated.

DATES: May 8, 2023 (effective date of revocation of the order).

FOR FURTHER INFORMATION CONTACT: Andres Andrade (202-205-2078), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to § 207.69 of the Commission's rules (19 CFR 207.69).

By order of the Commission.
Issued: June 29, 2023.
Lisa Barton,
Secretary to the Commission.

[FR Doc. 2023-14173 Filed 7-3-23; 8:45 am]

BILLING CODE 7020-02-P